DEPARTMENT OF THE INTERIOR

Bureau of Land Management

[NM-080-1430-EU; Serial No. NMNM-104317]

Notice of Realty Action; Environmental Assessment for Noncompetitive Sale of Public Lands in Eddy County

AGENCY: Bureau of Land Management.

ACTION: Notice of Realty Action.

SUMMARY: The Bureau of Land Management (BLM) is initiating the preparation of an Environmental Assessment (EA) for a direct sale under Section 203 of the Federal Land Policy and Management Act of 1976 (90 Stat 2750, 43 U.S.C. 1713), at not less than the appraised fair market value. The land will not be offered for sale until at least 60 days after the date of this notice.

T. 17 S., R. 30 E., NMPM,

Sec. 20: Lots 13, 14, 15, S½SE¼SE¼NE¼SE¼.

Containing approximately 5 acres.

The land is hereby segregated from appropriation under the public land laws, including the mining laws, pending issuance of patent or 270 days from date of this notice, whichever occurs first.

The land is to be offered by direct sale to Ray Westall, the adjacent land owner, to correct an encroachment on public land. Mr. Westall will construct a pipe yard on the location.

The patent, when issued, will reserve all minerals to the United States and will be subject to existing rights-of-way. Detailed information concerning the reservation, as well as specific conditions of the sale, are available for review at the Carlsbad Field Office, Bureau of Land Management, 620 East Green, Carlsbad, New Mexico 88220.

For a period of 45 days from the date of this notice, interested parties may submit comments to Bobbe Young, Lead Realty Specialist, P.O. Box 1778, Carlsbad, NM 88220. Any adverse comments will be evaluated by the Field Manager, who may vacate or modify this realty action and issue a final determination. In absence of objections, this realty action will become the final determination of the Department of the Interior.

Dated: July 28, 2000.
Douglas A. Melton,
Acting Field Manager.

[FR Doc. 00-19918 Filed 8-4-00; 8:45 am]

BILLING CODE 4310-FB-M